FEDERAL COMMUNICATIONS COMMISSION

47 CFR Part 76

[MB Docket Nos. 17-317 and 17-105, FCC 20-14]

In the Matter of Electronic Delivery of MVPD Communications; Modernization of Media Regulation Initiative

AGENCY: Federal Communications Commission.

ACTION: Final rule; announcement of effective date.

SUMMARY: In this document, the Federal Communications Commission (Commission) announces that the Office of Management and Budget (OMB) has approved, for a period of three years. the information collection requirements associated with the Electronic Delivery of MVPD Communications, Modernization of Media Regulation Initiative, Report and Order. This document is consistent with the Report and Order, which stated that the Commission would publish a document in the Federal Register announcing OMB approval and the effective date of the information collection requirements.

DATES: The amendatory instruction 2.b., 47 CFR 76.64(h)(5), published at 85 FR 22646, April 23, 2020, is effective on July 31, 2020.

FOR FURTHER INFORMATION CONTACT: For additional information, contact Cathy Williams, Cathy.Williams@fcc.gov, (202) 418-2918.

SUPPLEMENTARY INFORMATION: This document announces that, on July 7, 2020, OMB approved the information collection requirements contained in the Commission's Report and Order, FCC 20-14, published at 84 FR 22646, April 23, 2020. The OMB Control Number is 3060-0844. The Commission publishes this document as an announcement of the effective date of the information collection requirements.

Synopsis

As required by the Paperwork Reduction Act of 1995 (44 U.S.C. 3507), the FCC is notifying the public that it received OMB approval on July 7, 2020, for the information collection requirements contained in the Commission's rules.

No person shall be subject to any penalty for failing to comply with a collection of information subject to the Paperwork Reduction Act that does not display a current, valid OMB Control Number. The OMB Control Numbers is 3060-0844.

The foregoing notice is required by the Paperwork Reduction Act of 1995, Public Law 104-13, October 1, 1995, and 44 U.S.C. 3507.

The total annual reporting burdens and costs for the respondents are as follows:

OMB Control Number: 3060-0844.

OMB Approval Date: July 7, 2020.

OMB Expiration Date: July 31, 2023.

Title: Carriage of Transmissions of Television Broadcast Stations: Section 76.56(a), Carriage of Qualified Noncommercial Educational Stations; Section 76,57, Channel Positioning, Section 76.61(a)(1)-(2), Disputes Concerning Carriage, Section 76.64, Retransmission Consent.

Form Number: N/A.

Respondents: Business or other for-profit entities.

Number of Respondents: 4,902 respondents and 7,082 responses.

Estimated Time per Response: 0.5 to 5 hours.

Frequency of Response: On occasion reporting requirement; Third party disclosure requirement.

Obligation to Respond: Required to obtain or retain benefits. The statutory authority for this action is contained in Sections 1, 4(i) and (j), 325, 338, 614, 615, 631, 632, and 653 of the Communications Act of 1934, as amended, 47 U.S.C. 151, 154(i) and (j), 325, 338, 534, 535, 551, 552, and 573.

Total Annual Burden: 4,486 hours.

Total Annual Cost: No cost.

Privacy Impact Assessment: No impact(s).

Nature and Extent of Confidentiality: There is no need for confidentiality with this collection of information.

Needs and Uses: Under Section 614 of the Communications Act and the implementing rules adopted by the Commission, commercial TV broadcast stations are entitled to assert mandatory carriage rights on cable systems located within the station's television market. Under Section 325(b) of the Communications Act, commercial TV broadcast stations are entitled to negotiate with local cable systems for carriage of their signal pursuant to retransmission consent agreements in lieu of asserting must carry rights. This system is therefore referred to as “Must-Carry and Retransmission Consent.” Under Section 615 of the Communications Act, noncommercial educational (NCE) stations are also entitled to assert mandatory carriage rights on cable systems located within the station's market; however, noncommercial TV broadcast stations are not entitled to retransmission consent.

In 2019, the Commission adopted new rules governing the delivery and form of carriage election notices. Electronic Delivery of MVPD Communications, Modernization of Media Regulation Initiative, MB Docket Nos. 17-105, 17-317, Report and Order and Further Notice of Proposed Rulemaking, FCC 19-69, 34 FCC Rcd 5922(2019) (2019 Report and Order). That decision modernized the carriage election notice rules by moving the process online for most broadcasters and multichannel video programming distributors (MVPDs), but the Commission sought comment on how to apply these updated rules to certain small broadcast stations and MVPDs.

In 2020, the Commission adopted a Report and Order, which is the subject of this notice, that resolved the remaining issues regarding carriage election notice rules for small broadcast stations and MVPDs. Electronic Delivery of MVPD Communications, Modernization of Media Regulation Initiative, MB Docket Nos. 17-105, 17-317, Report and Order, FCC 20-14, 85 FR 22646 (rel. Feb. 25, 2020) (2020 Report and Order). Pursuant to that decision, the obligations of certain small broadcasters and MVPDs were slightly modified.

Specifically, 47 CFR 76.64(h)(5) was amended to require low power television stations and non-commercial educational translator stations that are qualified under 47 CFR 76.55 and retransmitted by an MVPD to, beginning no later than July 31, 2020, respond as soon as is reasonably possible to messages or calls from MVPDs that are received via the email address or phone number the station provides in the Commission's Licensing and Management System (LMS) database.

In addition, the 2020 Report and Order required that a qualified Low Power Television (LPTV) station that changes its carriage election send an election change notice to each affected MVPD's carriage election-specific email address by the carriage election deadline. Such change notices must include, with respect to each station covered by the notice: The station's call sign, the station's community of license, the DMA where the station is located, the specific change being made in election status, and an email address and phone number for carriage-related questions. LPTV notices to cable operators need to identify specific cable systems for which a carriage election applies only if the broadcaster changes its election for some systems of the cable operator but not all. In addition, the broadcaster must carbon copy ElectionNotices@FCC.gov, the Commission's election notice verification email inbox, when sending its carriage elections to MVPDs.

The 2020 Report and Order also required all qualified LPTV stations, whether being carried pursuant to must carry or retransmission consent, to send an email notice to all MVPDs that are or will be carrying the station no later than the next carriage election deadline of October 1, 2020. Qualified LPTVs must do so even if they are not changing their carriage status from the current election cycle. These notifications must be sent to an MVPD's carriage election-specific email address, must be copied to ElectionNotices@FCC.gov, and must include the same information required for a change notification except that the notification may simply confirm the existing carriage status rather than a change in status.

Finally, pursuant to the 2020 Report and Order, all qualified NCE translator stations must provide email notice to all MVPDs that are or will be carrying the translator no later than the next carriage election deadline of October 1, 2020. Similar to qualified LPTVs, these notifications must be sent to an MVPD's carriage election-specific email address, must be copied to ElectionNotices@FCC.gov, and must include the station's call sign, the station's community of license, and the DMA where the station is located and within which it has elected to be carried.

Federal Communications Commission.
Marlene Dortch,
Secretary. Office of the Secretary.

[FR Doc. 2020-15098 Filed 7-21-20; 8:45 am]

BILLING CODE 6712-01-P